ENVIRONMENTAL PROTECTION AGENCY

[FRL-7248-2]

National Beach Guidance and Required Performance Criteria for Grants

AGENCY: Environmental Protection Agency.

ACTION: Notice of availability.

SUMMARY: The Environmental Protection Agency (EPA) is publishing the National Beach Guidance and Required Performance Criteria for Grants. This document provides performance criteria for monitoring and assessment of coastal recreation waters adjacent to beaches, and prompt public notification of any exceedance or likelihood of exceedance of applicable water quality standards for pathogens and pathogen indicators for coastal recreation waters. This document also outlines the eligibility requirements for monitoring and notification program implementation grants under Clean Water Act (CWA) section 406(b). This document is intended to be used by potential grant recipients to implement effective programs for monitoring and assessing coastal recreation waters. The document will also serve as requirements for Federal agencies to implement beach monitoring and notification programs when States do not implement a program consistent with the performance criteria.

ADDRESSES: Interested persons may obtain a copy of the document from the EPA Web site at http://www.epa.gov/waterscience/beaches/ by contacting the Office of Water Resources Center at 202-260-7786 (e-mail: center.water-resource@epa.gov); mailing address is: Office of Water Resources Center, U.S. Environmental Protection Agency, RC-4100, 1200 Pennsylvania Avenue, NW., Washington, DC 20460. Please request the National Beach Guidance and Required Performance Criteria for Grants (EPA-823-B-02-004), June 2002.

FOR FURTHER INFORMATION CONTACT: Charles Kovatch, EPA, Standards and Health Protection Division (4305T), 1200 Pennsylvania Ave., NW, Washington, DC 20460, or call at (202) 566-0399 or e-mail at Kovatch.Charles@epa.gov.

SUPPLEMENTARY INFORMATION:

What Does the BEACH Act Require?

The BEACH Act was passed on October 10, 2000. The BEACH Act amended the CWA to add section 406, which authorizes EPA to award grants to states and tribes to develop and implement a program to monitor and assess, for pathogens and pathogen indicators, coastal recreation waters adjacent to beaches or similar points of access that are used by the public and to notify the public if applicable water quality standards for pathogens and pathogen indicators are exceeded. EPA may award an implementation grant only if the applicant meets all of the statutory requirements for implementation grants. One of these requirements is that the applicant must implement a monitoring and public notification program that is consistent with performance criteria published by EPA under the Act. The BEACH Act also requires EPA to implement a monitoring and notification program for coastal recreation waters for states and tribes that do not have a program consistent with EPA's performance criteria, using grant funds that would otherwise have been available to those states and tribes. A complete copy of the BEACH Act can be found at http://www.epa.gov/waterscience/beaches/technical.html.

What Is the Purpose of the Document?

This document sets forth performance criteria for (1) monitoring and assessing coastal recreation waters adjacent to beaches (or similar points of access used by the public) to determine attainment of applicable water quality standards for pathogen indicators and (2) promptly notifying the public of any exceedance or likelihood of exceedance of applicable water quality standards for pathogen indicators for coastal recreation waters. EPA is required to publish such performance criteria under CWA section 406(a). Section 406(b) authorizes EPA to award grants to states and tribes to implement a monitoring and notification program, but only if the program meets certain requirements (see CWA section 406(b)(2)(A)(i)-(v)). One of these requirements is that the monitoring and notification programs must be consistent with EPA's performance criteria.

The performance criteria provide the basis for EPA's evaluation of grant applications when deciding whether to award monitoring and notification program implementation grants under section 406(b). This document is intended to be used by potential grant recipients to implement effective monitoring and notification programs that will be eligible for grants under section 406.

This document also includes EPA's recommendations for implementing programs consistent with the performance criteria. In addition, this document also can serve as a reference guide for how and when to conduct preliminary beach assessments because it outlines protocols for water sample collection, sample handling, and laboratory analysis. It also provides information about using predictive models to estimate indicator levels and includes procedures for notifying the public about beach advisories, closings, and openings.

How Is the Document Organized?

The chapters in this document cover the following topics. Chapter 1 discusses human health concerns associated with exposure to pathogens and discusses the establishment of water quality standards for bacteria. Chapter 2 summarizes the basic requirements that an applicant must meet to receive a program implementation grant. The chapter identifies relevant sections of the BEACH Act, briefly describes the corresponding performance criteria that EPA has developed, and provides additional grant-related information. Chapter 3 describes the risk-based evaluation process that EPA recommends for states and tribes to classify and prioritize their recreation beaches. This step-by-step approach allows states and tribes to assess the relative human health risks and usage of their beaches and to assign an appropriate management ranking to each of them. Chapter 4 discusses the performance criteria related to monitoring and assessment and provides detailed technical guidance. Chapter 5 describes the performance criteria and technical guidance related to the public notification and risk communication portions of a beach program. The appendices include detailed technical information associated with the topics discussed in the five chapters:

Dated: July 15, 2002
G. Tracy Mehan III,
Assistant Administrator for Water.

[FR Doc. 02-18280 Filed 7-18-02; 8:45 am]

BILLING CODE 6560-50-P